DEPARTMENT OF JUSTICE

Community Oriented Policing Services: Public Meetings With the President's Task Force on 21st Century Policing Discussing Recommendations on Topics Relating to Policing

AGENCY: Community Oriented Policing Services, Justice.

ACTION: Notice of meeting.

SUMMARY: On December 18, 2014, President Barack Obama signed an Executive Order titled “Establishment of the President's Task Force on 21st Century Policing” establishing the President's Task Force on 21st Century Policing (“Task Force”). The Task Force seeks to identify best practices and make recommendations to the President on how policing practices can promote effective crime reduction while building public trust and examine, among other issues, how to foster strong, collaborative relationships between local law enforcement and the communities they protect. The Task Force will be holding its first public teleconference.

The meeting agenda is as follows:

Call to Order

Review of submitted recommendations

Discussion

DATES: The teleconference will be held Wednesday, January 21, 2014 from 5:00 p.m. to 7:00 p.m. Eastern Time. An opportunity will be provided to the public to comment.

Accommodations requests: To request accommodation of a disability, please contact Jessica Drake at 202-457-7771, preferably at least 10 days prior to the meeting, to give DOJ as much time as possible to process your request.

ADDRESSES: The meeting will be held by teleconference only. The teleconference number will be posted in advance of the teleconference at the Task Force Web site at www.cops.usdoj.gov/policingtaskforce.

FOR FURTHER INFORMATION CONTACT: Director, Ronald L. Davis, 202-514-4229 or PolicingTaskForce@usdoj.gov.

Address all comments concerning this notice to PolicingTaskForce@usdoj.gov.

SUPPLEMENTARY INFORMATION:

Electronic Access and Filing Addresses

The Task Force is interested in receiving written comments including proposed recommendations from individuals, groups, advocacy organizations, and professional communities. Additional information on how to provide your comments will be posted to www.cops.usdoj.gov/policingtaskforce.

Availability of Meeting Materials: The agenda and other materials in support of the teleconference will be available on the Task Force Web site at www.cops.usdoj.gov/policingtaskforce in advance of the teleconference.

Melanca Clark,
Chief of Staff.

[FR Doc. 2014-30978 Filed 1-6-15; 8:45 am]

BILLING CODE 4410-AT-P